SMALL BUSINESS ADMINISTRATION

Public Federal Regulatory Enforcement Fairness Hearing; Region I Regulatory Fairness Board

The U.S. Small Business Administration (SBA) Region I Regulatory Fairness Board and the SBA Office of the National Ombudsman will hold a National Regulatory Fairness Hearing on Tuesday, May 1, 2007, at 1 p.m. The forum will take place at the Rhode Island Convention Center, 1 Sabin Street, Room 558, Providence, RI 02903. The purpose of the meeting is for Business Organizations, Trade Associations, Chambers of Commerce and related organizations serving small business concerns to report experiences regarding unfair or excessive Federal regulatory enforcement issues affecting their members.

Anyone wishing to attend or to make a presentation must contact Norm Deragon, in writing or by fax in order to be placed on the agenda. Norm Deragon, Public Information Officer, SBA, Providence District Office, 380 Westminster Street, Room 511, Providence, RI 02903, phone (401) 528-4561, Ext. 4576 and fax (401) 528-4539, e-mail: Norm.deragon@sba.gov.

For more information, see our Web site at http://www.sba.gov/ombudsman.

Matthew Teague,
Committee Management Officer.

[FR Doc. E7-7363 Filed 4-17-07; 8:45 am]

BILLING CODE 8025-01-P